ENVIRONMENTAL PROTECTION AGENCY

[FRL-9615-1]

Final Reissuance of General NPDES Permits (GP) for Facilities Related to Oil and Gas Extraction

AGENCY: Environmental Protection Agency, Region 10.

ACTION: Final Notice of reissuance of a general permit.

SUMMARY: A GP regulating the activities of facilities related to oil and gas extraction on the North Slope of the Brooks Range, Alaska expired on January 2, 2009. On July 2, 2009, EPA proposed to reissue the GP expanding the coverage area to the TransAlaska Pipeline Corridor along with other potential corridors. There was a 45 day comment period. During the comment period, EPA received many comments and decided to make changes to the draft based on the comments received. On August 2, 2011, EPA re-noticed the GP with a new Fact Sheet requesting new comments. The comment permit ended on September 17, 2011.

EPA received several comments, the major one being a request not to cover the pipeline corridors under this GP. EPA agreed so the final coverage area reverts back to the North Slope Borough, Alaska. EPA has also renumbered the permit to distinguish it from the previous GP which covered more types of discharges.

DATES: The GP (Permit Number AKG-33-1000 formerly AKG-33-0000) will be effective February 2, 2012. Facilities with administratively extended coverage under the expired GP whose discharges are covered by the GP will be covered on the effective date of this GP thus ending any administrative extension for those permittees. Facilities that are not covered by the new GP but have administratively extended coverage under the previous GP will continue to have coverage under AKG-33-0000 until a new permit is issued to address those discharges.

ADDRESSES: Copies of the GP and Response to Comments are available upon request. Written requests may be submitted to EPA, Region 10, 1200 Sixth Avenue, Suite 900, OWW-130, Seattle, WA 98101. Electronic requests may be mailed to: washington.audrey@epa.gov or godsey.cindi@epa.gov

FOR FURTHER INFORMATION CONTACT: The GP, Fact Sheet and Response to Comments may be found on the Region 10 Web site at http://yosemite.epa.gov/r10/water.nsf/NPDES+Permits/General+NPDES+Permits.Requests by telephone may be made to Audrey Washington at (206) 553-0523 or to Cindi Godsey at (907) 271-6561.

SUPPLEMENTARY INFORMATION: Executive Order 12866: The Office of Management and Budget has exempted this action from the review requirements of Executive Order 12866 pursuant to Section 6 of that order.

The state of Alaska, Department of Environmental Conservation (ADEC), certified on December 19, 2011, that the subject discharges comply with the applicable provisions of Sections 208(e), 301, 302, 306 and 307 of the Clean Water Act.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that these general permits, as issued, will not have a significant economic impact on a substantial number of small entities.

Dated: December 22, 2011.
Michael A. Bussell,
Director, Office of Water & Watersheds, Region 10, U.S. Environmental Protection Agency.

[FR Doc. 2011-33663 Filed 12-30-11; 8:45 am]

BILLING CODE 6560-50-P